ENVIRONMENTAL PROTECTION AGENCY

[FRL-9902-42-OA; EPA-HQ-OA-2013-0124]

Good Neighbor Environmental Board; Notification of Public Advisory Committee Teleconference

AGENCY: Environmental Protection Agency (EPA).

ACTION: Notice of Public Advisory Committee Teleconference.

SUMMARY: Pursuant to the Federal Advisory Committee Act, Public Law 92-463, notice is hereby given that the Good Neighbor Environmental Board (GNEB) will hold a public teleconference on Friday, November 15, 2013. The meeting will take place from 12 p.m. to 2 p.m. Eastern Standard Time. Due to the government shutdown resulting in administrative backlogs, EPA is announcing this teleconference with less than 15 calendar days public notice. The meeting is open to the public. For further information regarding the teleconference and background materials, please contact Ann-Marie Gantner at the number listed below.

DATES: Friday, November 15, 2013. The meeting will take place from 12 p.m. to 2 p.m. Eastern Standard Time.

SUPPLEMENTARY INFORMATION: Background: GNEB is a federal advisory committee chartered under the Federal Advisory Committee Act, Public Law 92463. GNEB provides advice and recommendations to the President and Congress on environmental and infrastructure issues along the U.S. border with Mexico.

Purpose of Meeting: The purpose of this teleconference is to discuss the Good Neighbor Environmental Board's Sixteenth Report and preliminary advice letter. The report and advice letter will focus on ecological restoration in the U.S.-Mexico border region.

General Information: The agenda and meeting materials will be available at http://www.regulations.gov under Docket ID: EPA-HQ-OA-2013-0124. General information about GNEB can be found on its Web site at www.epa.gov/ofacmo/gneb.

If you wish to make oral comments or submit written comments to the Board, please contact Ann-Marie Gantner at least five days prior to the meeting. Written comments should be submitted at http://www.regulations.gov under Docket ID: EPA-HQ-OA-2013-0124.

Meeting Access: For information on access or services for individuals with disabilities, please contact Ann-Marie Gantner at (202) 564-4330 or email at gantner.ann-marie@epa.gov. To request accommodation of a disability, please contact Ann-Marie Gantner at least 10 days prior to the meeting to give EPA as much time as possible to process your request.

Dated: October 23, 2013.
Ann-Marie Gantner,
Acting Designated Federal Officer.

[FR Doc. 2013-26342 Filed 11-1-13; 8:45 am]

BILLING CODE 6560-50-P